DEPARTMENT OF HEALTH AND HUMAN SERVICES

Office of the Secretary

Announcement of Cooperative Agreement With the Association of Teachers of Preventive Medicine

AGENCY: Office of Disease Prevention and Health Promotion, Office of Public Health and Science, HHS.

ACTION: Notice of single source cooperative agreement with the Association of Teachers of Preventive Medicine.

Authority: Sections 1701 and 1703 of the Public Health Service Act, as amended.

Purpose: The Office of Disease Prevention and Health Promotion announces it is continuing to support a single source Cooperative Agreement with the Association of Teachers of Preventive Medicine (ATPM) for ATPM to complete its management of certain fellowship and residency rotation programs of the Office of Disease Prevention and Health Promotion.

SUMMARY: The Office of Disease Prevention and Health Promotion (ODPHP) announces that it will continue to support a single source Cooperative Agreement with the Association of Teachers of Preventive Medicine (ATPM) so that ATPM may complete its work with a consortium of societies of teachers of primary health care and preventive medicine to select and manage the Luther L. Terry Preventive Medicine Fellowship and related activities, including support for a preventive medicine residency rotation. Approximately $257,000 will be available in FY 2001 funds to support this non-competitive cooperative agreement.

DATES: This award will begin on or before September 30, 2001, for a 9-month budget period with a project period ending June 30, 2002. Funding estimates may change.

ADDRESSES AND CONTACT: Ms. Sally Jones, Administrative Officer, Office of Disease Prevention and Health Promotion, Office of Public Health and Science, Department of Health and Human Services, 200 Independence Avenue, SW., room 738-G, Washington, DC 20201; Telephone (202) 260-7654. An application for this award should be submitted by the ATPM and received by Ms. Jones no later than close of business September 28, 2001.

SUPPLEMENTARY INFORMATION: The Office of Disease Prevention and Health Promotion (ODPHP) uses cooperative agreements with national organizations to support its mandate to provide leadership to promote health and prevent disease among Americans through management and coordination of the implementation of Healthy People 2010, the nation's health objectives for this decade. Through cooperative agreements, ODPHP has forged public-private partnerships to extend the reach and effectiveness of its work. This program addresses especially the Healthy People 2010 Leading Health Indicators. For a copy of Health People 2010, visit the Internet site: http://health.gov/healthypeople.

ODPHP intends to provide financial assistance of about $257,000 to the Assistance of Teachers of Preventive Medicine to: (a) Complete the process of managing the 2000-2002 Luther L. Terry Preventive Medicine Fellowship; (b) work with a consortium of societies of teachers and practitioners of primary health care and preventive medicine to complete the process of selecting the 2002-2004 Luther L. Terry Preventive Medicine Fellowship; (c) complete the management of an ODPHP/ATPM fellow in health promotion and disease prevention to facilitate implementation of the Leading Health Indicators; (d) complete support for 2001-2002 preventive medicine residents (and residents in other relevant specialities) to experience residence rotations in a health policy setting as part of their residency program; and (e) prepare a report on the process for recruitment, selection, and management of the Luther Terry fellowship and the preventive medicine residency rotations including suggestions for improvements and enhancements. These programs provide a link between ODPHP and the primary care and preventive medicine education community in the furtherance of Healthy People 2010 implementation.

Eligible Applicants

Assistance will be provided only to the Association of Teachers of Preventive Medicine (ATPM). No other applications are solicited for this activity. ATPM is the most appropriate and qualified organization to conduct the activities under this cooperative agreement because:

1. The work involved is solely to complete activities already initiated through the current cooperative agreement. Transferring responsibility for the remaining tasks to a new organization at this point in time would be disruptive and unproductive.

2. ATPM has a documented ability to build and maintain effective fellowship and residency programs in collaboration with federal health agencies and more specialized medical societies. It has developed and maintains fellows and residency programs for the Centers for Disease Control and Prevention, the Health Resources and Services Administration, and the Health care Financing Administration. The current Luther. L. Terry Preventive Medicine Fellowship, begun in 1985 with ATPM management, continues to function effectively and with guidance from a consortium of specialized societies, including the Society of Teachers of Family Medicine, the Society of General Internal Medicine, and the Ambulatory Pediatric Association.

3. ATPM provides the structure and experience for institution programs that strengthen disease prevention and health promotion at all levels. Through its own membership and mission, ATPM has developed unique knowledge and understanding of the clinical preventive services and the Healthy People objectives. One of its major objectives is to advance preventive medicine and public health in the education of physicians and other health professionals. Thus, ATPM members will benefit directly from these post-graduate opportunities in health promotion and disease prevention.

Availability of Funds: Approximately $257,000 will be available to fund one cooperative agreement. It is expected that this award will begin on or about September 30, 2001, and will be made for a 9-month budget period with a project period ending June 30, 2002. Funding estimates may change.

Use of Funds: Funds cannot be used for construction or renovation, to purchase or lease vehicles or vans, to purchase a facility to house project staff or carry out project activities, or to substitute new activities and expenditures for current ones.

Other Award Information

The Catalog of Federal Domestic Assistance number is 93.990. This program is not subject to the Intergovernmental Review of Federal Programs as governed by Executive Order 12372. This program is not subject to the Public Health System Reporting Requirement. ODPHP strongly encourages all grant recipients to provide a smoke-free workplace and promote the non-use of all tobacco products, and Public Law 103-227, the Pro-Children's Act of 1994, prohibits smoking in certain facilities that receive Federal funds in which education, library, day care, health care, and early childhood development services are provided to the children.

Dated: September 12, 2001.
Mary Jo Deering,
Acting Deputy Director, Office of Disease Prevention and Health Promotion.

[FR Doc. 01-23279 Filed 9-18-01; 8:45 am]

BILLING CODE 4150-32-M